DEPARTMENT OF LABOR

Office of Disability Employment Policy

[SGA 03-07]

Working for Freedom, Opportunity and Real Choice Through Community Employment (WorkFORCE) Action Grant Initiative

AGENCY: Office of Disability Employment Policy, Department of Labor.

ACTION: Notice of availability of funds; solicitation for grant applications (SGA).

This notice contains all of the necessary information and forms needed to apply for grant funding. (SGA 03-07)

SUMMARY: The U.S. Department of Labor (DOL), Office of Disability Employment Policy (ODEP) announces the availability of $2.5 million to award up to 6 competitive Working for Freedom, Opportunity and Real Choice through Community Employment (WorkFORCE) Action Grant Initiative grants ranging from approximately $400,000 to $625,000 to continue its support for increasing and improving employment opportunities that allow individuals with disabilities to: (1) Move from nursing homes or other institutions and residential facilities into the community; (2) continue living in the community; (3) achieve economic self-sufficiency; and (4) attain full access to, and participation in their communities. These demonstration grants will begin or expand the delivery and implementation of customized community employment opportunities for individuals with disabilities so that they may live, work, and fully participate in their communities.

The purpose of these grants, therefore, is to develop and document the capability of individuals transitioning from segregated environments (such as nursing homes, institutions, and segregated day environments) to: (1) Successfully participate in community employment through utilization of customized strategies; (2) increase their earnings and economic power through participation in such employment; and (3) live, work and fully participate in their communities. The WorkFORCE Action Grants will be funded for a one-year period and may be renewed for a period of up to four additional years at varying funding levels (see Section IV) depending upon the availability of funds and the efficacy of the project activities.

The applicants scoring the highest when evaluated pursuant to the criteria set forth in Part VII, in conjunction with considerations by the Grant Officer delineated in Part IX of this Solicitation for Grant Application will be awarded WorkFORCE Action Grants.

Eligibility: Non-profit organizations, including faith-based and community organizations, working in coordination with the One-Stop delivery system, as provided under the Workforce Investment Act (WIA) (Pub. L. 105-220, 29 U.S.C. 2801 et seq.), are eligible applicants for WorkFORCE Action Grants.

DATES: Applications will be accepted on May 29, 2003. The closing date for receipt of applications under this announcement is July 14, 2003. Applications must be received by 4:45 p.m. (ET) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-07, Room N-5416, 200 Constitution Avenue, NW., Washington, DC 20210. Telefacsimile (Fax) applications will not be accepted. Applicants are advised that mail in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact DOL via the Federal Relay Service, (800) 877-8339. This announcement will also be published on the Internet on the ODEP's online Home Page at: http://www2.dol.gov/odep. Award notifications will also be published on the ODEP homepage.

SUPPLEMENTARY INFORMATION:

Part I. Delivery of Applications

1. Late Applications

Any application received after the exact date and time specified for receipt at the office designated in this notice will be considered non-responsive, unless it is received before awards are made and it (a) is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications

Applications may be withdrawn by written notice or telegram (including mail gram) received at any time before an award is made. Applications may be withdrawn in person by the applicant or by an authorized representative thereof, if the representative's identity is made known and the representative signs a receipt of the proposal.

3. Hand-Delivered Proposals

It is preferred that applications be mailed at least five days prior to the closing date. To be considered for funding, hand-delivered applications must be received by 4:45 p.m., ET, at the specified address. Failure to adhere to the above instructions will be basis for a determination of non-responsiveness. Overnight express mail from carriers other than the U.S. Postal Service will be considered hand-delivered applications and must be received by the above specified date and time.

Part II. Authority

Omnibus Appropriations Resolution, 2003, Public Law 108-7; Consolidated Appropriations Act, 2001, Public Law 106-554, 29 U.S.C. 557b.

Part III. Background

In Olmstead v. L.C., 527 U.S. 581, 119 S.Ct. 2176 (1999) (the “Olmstead decision”), the Supreme Court construed Title II of the Americans with Disabilities Act (ADA) to require states to place qualified individuals with mental disabilities in community settings, rather than in institutions, whenever treatment professionals determine that such placement is appropriate, the affected persons do not oppose such placement, and the state can reasonably accommodate the placement, taking into account the resources available to the state and the needs of others with disabilities. The Department of Justice regulations implementing Title II of the ADA require public entities to administer their services, programs, and activities in the most integrated setting appropriate to the needs of qualified individuals with disabilities. See 28 CFR 35.130(d).

In Olmstead, the Supreme Court stated that institutional placements of people with disabilities who can live in, and benefit from, community settings perpetuates the unwarranted assumptions that persons so isolated are incapable or unworthy of participating in community life. The Supreme Court stated that “recognition that unjustified institutional isolation of persons with disabilities is a form of discrimination reflect[ed] two evident judgements”: (1) “Institutional placements of people with disabilities who can live in, and benefit from, community settings perpetuates the unwarranted assumptions that persons so isolated are incapable or unworthy of participating in community life”; and (2) “confinement in an institution severely diminishes everyday life activities of individuals, including family relations, social contacts, work options, economic independence, educational advancement, and cultural enrichment.” Olmstead, 119 S.Ct. 2176, 2179, 2187 [emphasis added]. This decision affects not only all persons in institutions and segregated settings, but also people with disabilities who are at risk of institutionalization, including people with disabilities on waiting lists to receive community based services and supports.

The Court indicated that one way states can show they are meeting their obligations under the ADA and the Olmstead decision is to develop a “comprehensive, effectively working plan for placing qualified people with mental disabilities in less restrictive settings.” Olmstead at 2179. Based on this, almost all states are in the process of developing, or have already developed such plans.

In support of these state efforts, President George W. Bush issued Executive Order 13217: Community-Based Alternatives for Individuals with Disabilities (the Olmstead Executive Order) on June 18, 2001, in which he extended application of the Supreme Court's Olmstead decision to all Americans with disabilities, and called upon selected Federal agencies, including the U.S. Department of Labor, to help support governors in their implementation of the Olmstead decision. In support of these state efforts and in response to the direction set forth in Executive Order 13217, the ODEP is issuing this SGA for WorkFORCE Action Grants.

In March 2002, the U.S. Secretary of Health and Human Services, Tommy G. Thompson, submitted a report to President Bush, titled Delivering on the Promise, on behalf of the Departments of Labor (DOL), Justice (DOJ), Education (ED), Health and Human Services (HHS), Housing and Urban Development (HUD), Transportation (DOT), Veterans Affairs (VA), the Social Security Administration (SSA) and the Office of Personnel Management (OPM). This report detailed actions being planned by the aforementioned agencies to eliminate barriers and promote community integration. See http://www.hhs.gov/newfreedom/final. In this report, the DOL and other Federal agencies noted that successful Olmstead planning and implementation efforts must include competitive employment and employment-related supports. Delivering on the Promise identifies several key concerns related to employment that must be addressed, including:

• Fragmentation of existing employment services;

• Isolation and segregation of people with disabilities from “mainstream” or generic employment programs and services;

• Lack of access to health insurance;

• The complexity of existing work incentives that are meant to encourage and/or support work efforts;

• Lack of control and choice in selecting employment training and service providers;

• Inadequate work opportunities resulting from attitudinal barriers based on historical and erroneous stereotypes; and

• Lack of accurate data on employment of people with disabilities needed to measure progress in eliminating barriers to their employment.

Many strategies exist for creating and expanding competitive employment opportunities in the community, including those for individuals who have been segregated in institutions, nursing homes, sheltered workshops and day activity programs. Many promising strategies have emerged through decades of research and demonstration projects, and through other public and private activities promoting increased choice and self-determination for people with disabilities. These include multiple “customized” employment approaches such as supported employment and supported entrepreneurship; individualized job development; job carving and restructuring; use of personal agents (including individuals with disabilities and family members); development of micro-boards, micro-enterprises, cooperatives and small businesses; and the use of personal budgets and other forms of individualized funding that provide choice and control to the person and promote self-determination.

Accordingly, last year the ODEP awarded 12 WorkFORCE Coordinating Grants, totaling $1,599,910 and three WorkFORCE Action Grants, totaling $1,983,067. This initiative represented the ODEP's support for increasing and improving employment opportunities for the population covered by the Olmstead decision, and is demonstrating that such individuals can successfully achieve employment and participate in community life.

The additional WorkFORCE Action Grants represented by this SGA are meant to build on the ODEP's existing WorkFORCE Grant Initiative. Expanding the number of projects funded under the WorkFORCE Grant Initiative will enhance the development of information that can inform the policy development activities of the ODEP, and provide an opportunity for implementation of projects designed under the WorkFORCE Coordinating Grants awarded by the ODEP last year. Additionally, these grants support the President's New Freedom Initiative. The New Freedom Initiative is designed to increase the number of people with disabilities who enter, re-enter, and remain in the workforce. By emphasizing the need to increase the capacity of federally-supported employment and training programs to serve people with significant disabilities, including those covered by the Olmstead decision and Executive Order, the current SGA will further the New Freedom Initiative's goals of increased integration of Americans with disabilities into the workforce.

The grants awarded under this SGA will also complement other Federal and state initiatives already underway to make working and living in the community a reality for more people with disabilities, including the state planning and implementation efforts under the U.S. Supreme Court's Olmstead decision; the Olmstead Executive Order; the Department of Health and Human Services Systems Change Grants; the ODEP Work Incentive, Customized Employment, and Technical Assistance and Training to Providers initiatives; and other related grant opportunities and efforts by the DOL, the HHS, and the SSA under the Workforce Investment Act (WIA) and the Ticket to Work and Work Incentives Improvement Act (TWWIIA). The WorkFORCE grants will utilize the resources and incentives of these and other initiatives to create competitive employment opportunities for individuals eligible under the Olmstead decision and the Executive Order. The resulting employment opportunities for people with disabilities eligible for these programs are essential to accomplish the goal of full integration within the community.

In addition, these grants will support implementation of coordinated workforce development envisioned under the WIA. The WIA established comprehensive reform of existing Federal job training programs, consolidating multiple programs into a unified system and bringing multiple Federal programs together as required partners in the One-Stop delivery system established under the WIA. The One-Stop Centers, which comprise the heart of this system, are in a position to expand employment opportunities for people with disabilities by helping to ensure that the workforce system is accessible both physically and programmatically. To accomplish this, however, additional state and local organizations must be involved, including community based providers of customized employment services. Additional partners necessary to the success of this endeavor for people with disabilities include, but are not limited to, the following: State programs for individuals with cognitive and developmental disabilities; Medicaid; mental health and substance abuse agencies and organizations; transportation and assistive technology providers; Small Business Development Centers; secondary education programs; community colleges; University Centers for Excellence in Developmental Disabilities; foundations; and faith-based and community organizations.

In particular, it is essential that One-Stop Centers have available a variety of eligible training providers in their respective communities to meet the needs of individuals seeking employment. This includes faith-based and community organizations with expertise in customized employment strategies for assisting people with disabilities to achieve choice-based employment. Such innovative partnerships with the One-Stop system hold the promise of dramatically increasing both employment and wages for people with disabilities, in part by increasing their choices for integrated, competitive employment, business ownership, entrepreneurship, and other customized employment options.

In response to these considerations and in view of the potential resources described above, the ODEP will continue its Working for Freedom, Opportunity and Real Choice through Community Employment (WorkFORCE) Grant Initiative by awarding WorkFORCE Action Grants that develop and/or expand the capacity of communities to provide individually determined, customized employment, in partnership with the workforce development system.

Part IV. Funding Availability and Period of Performance

The ODEP anticipates awarding up to 6 grants, ranging from approximately $400,000 to $625,000 per year, totaling $2.5 million, to develop demonstration programs to support the development and coordination of customized community employment opportunities in non-stereotypical jobs for people with disabilities who want to: (1) Move from nursing homes, residential facilities, or other segregated environments into the community; (2) continue living in the community; (3) achieve economic self-sufficiency; and (4) attain full access to, and participation in, their communities. This grant initiative is founded in the belief that to fully participate in community life, such individuals must have the opportunity for employment.

These demonstration grants will be awarded for one year, with four additional option years possible, depending upon the availability of funds and the efficacy of grant activities, established by independent reviews conducted by the ODEP or its designees. It is envisioned that if funding continues for the full five years, the funding for years four and five will be at successively lower rates with funding during year four at 80 percent of the third year funds, and funding during year five at 60 percent of the third year funds. Grantees are expected to use this grant to leverage and develop other public and private resources to ensure sustainability.

Part V. Eligible Applicants and Required Partnerships

Eligible Applicants

Eligible applicants for these demonstration grants are non-profit organizations including faith-based and community organizations (although not 501(c)(4) entities subject to the Lobbying Disclosure Act). To be determined eligible, applicants must:

1. Successful applicants must indicate their intent to register as eligible training providers in their states and coordinate with their local One-Stop Career Center(s);

2. In addition, successful applicants will not utilize certificates authorized under section 14(c) of the Fair Labor Standards Act in their implementation of project activities and will utilize only individually determined customized employment strategies in securing employment for the target population.

Required Partnerships

The purpose of the WorkFORCE Action Grants is to demonstrate the employment potential of people with disabilities through techniques for accomplishing community employment in non-stereotypical integrated settings, utilizing customized employment strategies. These efforts must include the involvement of many key partners, especially those with direct involvement in their area's One-Stop Career Centers.

The target populations to be served are people with disabilities who are either unemployed or under-employed and who are:

• In non-work (i.e., day activity, social clubs), segregated work, or transitioning to work settings; or,

• Expected to be or are determined to be covered under the Olmstead decision and Executive Order and therefore part of the state overall Olmstead planning and implementation process; or,

• Awaiting employment services and supports following a move from a residential facility, or as part of a plan to move into a community under the Supreme Court's decision in Olmstead and the Olmstead Executive Order.

In addition, this program is subject to the provisions of the “Jobs for Veterans Act,” Public Law 107-288, which provides priority of service to veterans and certain of their spouses in all Department of Labor-funded job training programs. Please note that, to obtain priority of service, a veteran must meet that program's eligibility requirements. Comprehensive policy guidance is being developed and will be issued in the near future.

The target groups to be served by these grants are intended to be those persons with disabilities who are both defined above and who have been among the hardest to serve due to low expectations for employment, lack of employment skills, limited independent living experiences or other individualized needs and supports.

Applicants must:

1. Submit a letter signed by their state's governor, or his or her designee for overall Olmstead implementation, that the proposed grant activities will be regarded as an official demonstration program playing a vital role in the state's Olmstead employment implementation effort(s). Moreover, this letter must describe how the lessons learned under implementation of the WorkFORCE Action Grant will be utilized to benefit other communities throughout the state, and thereby provide expanded customized community employment options for people who are covered under the Olmstead decision and Executive Order.

2. Grant applications must include evidence of current collaboration and partnerships with a wide variety of state agencies, entities and individuals. Some of the agencies and organizations that should be considered for inclusion are:

• Employment and training agencies;

• State and local Workforce Investment Boards and their One-Stop Career Centers;

• State agencies for substance abuse, vocational rehabilitation, education, Medicaid, mental retardation, mental health, public health, and Temporary Assistance for Needy Families (TANF);

• State Developmental Disability Councils and University Centers for Excellence in Developmental Disabilities;

• Small Business Development Centers,

• Independent Living programs;

• Community colleges, benefits counseling and assistance programs;

• Lending and financial institutions, whose expertise, services, or funds could contribute to employment services and supports needed to secure competitive, customized community employment outcomes for the target group;

• Faith-based and community organizations;

• Community rehabilitation providers;

• Family members, consumers, employers, and any other key agencies or constituencies needed to offer a comprehensive service delivery model.

Part VI. Format Requirements for Grant Application

General Requirements

Applicants must submit one (1) paper copy with an original signature and two (2) additional paper copies of their signed proposal. To aid with the review of applications, USDOL also encourages Applicants to submit an electronic copy of their proposal on a disc or CD using Microsoft Word. Applicants who do not provide an electronic copy will not be penalized. The Application Narrative must be double-spaced with standard one-inch margins (top, bottom, and sides) on 8½ x 11 papers, and be presented on single-sided, numbered pages with the exception of format requirements for the Executive Summary. The Executive Summary must be limited to no more than two single-spaced, single-sided pages on 8½ x 11 papers with standard one-inch margins (top, bottom, and sides) throughout. A font size of at least twelve (12) pitch is required throughout. Applications that fail to meet these requirements will be considered non-responsive.

The three required sections of the application are:

Section I—Project Financial Plan

Section II—Executive Summary—Project Synopsis

Section III—Project Narrative (including Attachments, not to exceed seventy-five (75) pages)

Mandatory requirements for each section are provided as follows in this application package. Applications that fail to meet the stated mandatory requirements of each section will be considered non-responsive.

Mandatory Application Requirements

• Section I. Project Financial Plan (Budget) [The Project Financial Plan will not count against the application page limits.] Section I of the application must include the following three required parts:

(1) Completed “SF 424—Application for Federal Assistance” (See Appendix A of this SGA for required form.)

(2) Completed “SF 424A—Budget Information Form” by line item for all costs required to implement the project design effectively. (See Appendix B of this SGA for required forms.)

(3) Budget Narrative and Justification that provides sufficient information to support the reasonableness of the costs included in the budget in relation to the service strategy and planned outcomes.

The application must include one SF-424 with the original signatures of the legal entity applying for grant funding and two additional copies. Applicants shall indicate on the SF-424 the organization's IRS status, if applicable. Under the Lobbying Disclosure Act of 1995, section 18 (29 U.S.C. 1611), an organization described in section 501(c)(4) of the Internal Revenue Code of 1986 that engages in lobbying activities will not be eligible for the receipt of Federal funds constituting an award, grant, or loan. (See 2 U.S.C. 1611; 26 U.S.C. 501(c)(4).) For item 10 of the SF-424, the Catalog of Federal Domestic Assistance (CFDA) number for the program is 17.720.

The Budget Narrative and Justification must describe all costs associated with implementing the project that are to be covered with grant funds. Grantees must support the travel and associated costs with sending at least one representative to the annual ODEP Policy Conference for Grantees, to be held in Washington, DC, at a time and place to be determined. Grantees must comply with the “Uniform Administrative Requirements for Grants and Cooperative Agreements to State and Local Governments,” (also known as the “Common Rule”) codified at 29 CFR part 97, and “Grants and Agreements with Institutes of Higher Education, Hospitals, and Other Non-Profit Organizations (also known as OMB Circular A-110), codified at 29 CFR part 95 and must comply with the applicable OMB cost principles circulars, as identified in 29 CFR 95.27 and 29 CFR 97.22(b).

Grantees may use funds in a flexible manner, as determined appropriate by input from stakeholders and identified needs, so long as requirements for outcome and evaluation data and other requirements of Federal statutes, regulations, administrative requirements, and OMB circulars and the requirements delineated in this SGA are met.

In addition, the budget must include on a separate page a detailed cost analysis of each line item. Justification for administrative costs must be provided. Approval of a budget by the DOL is not the same as the approval of actual costs. The individual signing the SF-424 on behalf of the applicant must represent and be able to legally bind the responsible financial and administrative entity for a grant should that application result in an award. The applicant must also include the Assurances and Certifications Signature Page (Appendix C).

• Section II. Executive Summary—Project Synopsis (The Executive Summary is limited to no more than two single-spaced, single-sided pages on 8½ x 11 paper with standard margins throughout). Each application shall include a project synopsis that identifies the following:

• The applicant;

• The amount of funds requested;

• The planned period of performance;

• The list of partners, as appropriate;

• An overview of how the applicant will identify the population to be served (including the estimated number and types of disability), the environments such individuals are currently experiencing (such as institutions, nursing homes, segregated day programs, etc.), and methods that will be used to promote community employment, including customized employment strategies listed in this SGA; and

• An overview of the plan for sustainability once Federal funding ceases.

• Section III. Project Narrative (The Project Narrative plus attachments are limited to no more than seventy-five (75), 8½ x 11 pages, double-spaced with standard one-inch margins (top, bottom, and sides), and must be presented on single-sided, numbered pages. Note: The Financial Plan, the Executive Summary, and the Appendices are not included in the seventy-five (75)-page limit.) The requirements for the project narrative are described below under Part VII—Statement of Work.

All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Part VII. Government Requirements/Statement of Work [Project Narrative]

The purpose of the WorkFORCE Action Grants is to demonstrate the employment potential of people with disabilities through techniques for accomplishing community employment in non-stereotypical integrated settings, utilizing customized employment strategies. These efforts must include the involvement of many key partners, especially those with direct involvement in their area's One-Stop Career Centers, as described in Section V above.

For purposes of this solicitation, customized employment means individualizing the employment relationship between employees and employers in ways that meet the needs of both. It is based on an individualized determination of the strengths, needs, and interests of the person with a disability, and is also designed to meet the specific needs of the employer. It may include approaches such as supported employment; supported entrepreneurship; individualized job development; job carving and restructuring; use of personal agents (including individuals with disabilities and family members); development of micro-boards, micro-enterprises, cooperatives and small businesses; and use of personal budgets and other forms of individualized funding that provide choice and control to the person and promote self-determination. These and other job development or restructuring strategies result in job responsibilities being customized and individually negotiated to fit the needs of individuals with disabilities. Customized employment assumes the provision of reasonable accommodations and supports necessary for the individual to perform the functions of a job that is individually negotiated and developed.

Each applicant for these grants shall describe its plan for expanding capacity for, and provision of, customized employment opportunities to the target groups as defined in Part V above.

The Project Narrative, or Section III of the grant application, should provide complete information on how the applicant will address the following DOL priorities for fiscal year 2003:

(1) Increase the availability of skill training, employment opportunities and career advancement for persons with disabilities; and

(2) Develop comprehensive One-Stop Centers, which are welcoming and are valued providers of choice by customers with disabilities seeking workforce assistance by assuring the availability of staff trained on disability issues, personalized employment counseling, knowledgeable support that addresses employment barriers and work incentives, and the availability of accommodations and technologies for diverse disabilities.

Proposals will be rated based upon the quality of the applicant's response in addressing the four criteria described below in terms of a comprehensive strategic approach that addresses the ODEP's priorities noted above. The four criteria (Statement of Need/National Significance, Comprehensive Service Strategy, Sustainability, and Management Plan and Outcomes) MUST be addressed and the applicant's accomplishments or status with regard to each item provided.

The ODEP, however, does not expect the applicant to fully incorporate every item listed as part of their strategy and proposal design. The ODEP recognizes that the needs and requirements of each state and community may be different, and therefore, some of the options identified may be more relevant than others in a particular state.

1. Statement of Need/Significance of the Project (15 Points)

The purpose of the Statement of Need criteria is to establish the overall status of disability issues relevant to the targeted population in the applicant's state; to identify strengths and deficiencies to be addressed by the applicant's proposal; to identify the overall scope of the proposal's objectives and design; to present the applicant's need for the grant resources; to demonstrate significance of the proposed project; and to demonstrate the current and proposed partnerships and collaborative efforts to develop or demonstrate promising new strategies, practices, and/or innovations. The narrative in this section should include:

(1) The potential contribution of the proposed project to increase knowledge or understanding of problems, issues, or effective strategies for community-based organizations and other potential partners to use customized employment strategies to increase employment, choice and wages, and influence systems change for the Olmstead covered population.

(2) The extent to which the applicant demonstrates an understanding of the issues the state and proposed geographic area are currently facing in their overall Olmstead implementation efforts;

(3) The extent to which the applicant demonstrates a clear understanding of customizing employment and the range of strategies it can incorporate;

(4) The extent to which the proposed project is likely to yield findings that may be used by other appropriate agencies and organizations;

(5) The extent to which the proposed project involves the development or demonstration of promising new strategies that build upon, or are alternatives to, existing strategies;

(6) The extent to which the promising practices of the proposed project will be disseminated in ways that will enable others to use the information or strategies;

(7) The potential replicability (national significance) of the proposed project or strategies, including, as appropriate, the potential for implementation in a variety of settings; and

(8) The importance or magnitude of the results, which are likely to be attained by the proposed project.

In evaluating the quality of the proposal narrative, the ODEP will consider the applicant's identified needs and proposed approaches to addressing the needs in the context of the ODEP's priorities.

2. Comprehensive Service Strategy (30 Points)

The purpose of the Comprehensive Service Strategy criteria is to identify the approach proposed by the grantee to implement the WorkFORCE Action Grant. In general, this requires extensive linkages and on-site knowledge of applicable resources that address multiple disability issues and barriers to community integration and employment that are commonly experienced by the Olmstead covered population.

A. Staff Capacity—the applicant must:

(1) Describe the proposed staffing of the project. Identify how it will ensure that trained staff with adequate knowledge of diverse disabilities, knowledge of diverse customized employment strategies, and employment-related experience for the target population will be available to provide grant related services.

(2) Summarize the qualifications, including relevant education, training and experience of key project personnel, as well as project consultants or subcontractors, including their qualifications, relevant training and experience. Attach copies of resumes in the Appendices.

(3) Describe the applicant's experience in serving people with disabilities and in providing customized employment services.

(4) Describe the extent to which the time commitments of the project director and principal investigator and other key project personnel are appropriate and adequate to meet the objectives of the proposed project.

B. Proposed Project Design and its Evaluation—the application must address the proposed design for the WorkFORCE Action Grant, including its response to the requirements outlined in Part V (Eligible Applicants and Required Partnerships) of this Solicitation.

The Project Design must:

(1) Address the movement of individuals from segregated settings to customized employment opportunities in the community;

(2) Work in coordination with their state's Olmstead lead agency on their state's overall Olmstead plan, and describe how they will contribute to the development of their state's plan and implementation strategy related to employment;

(3) Integrate customized employment strategies with their state's employment programs and services, including existing services available through the One-Stop Centers, the state and local Workforce Investment Boards, and their partners;

(4) Coordinate their efforts with existing Olmstead activities and programs including grant activities and initiatives funded by the SSA, the Centers for Medicaid and Medicare Services at HHS, and grant activities and initiatives funded by the Center for Mental Health Services of HHS;

(5) Develop customized employment opportunities in a variety of occupations and industries based on the strengths, needs, and desires of the individual with a disability, including self-employment and entrepreneurship where appropriate. Services and supports must be organized in ways that provide informed choice and promote self-determination;

(6) Establish employer involvement; track and respond to customer service and satisfaction for both persons with disabilities and employers; and provide services, including follow-up services, to ensure job retention and career development;

(7) Collaborate with other faith-based and community organizations in their state in order to expand opportunities for customized employment for the target group. This includes facilitating the availability and use of customized employment strategies by such organizations, as well as facilitating such organizations registering as eligible training providers with their local One-Stop Career Centers;

(8) Educate relevant stakeholders and systems personnel about changes needed to increase customized community employment outcomes for individuals with disabilities;

(9) Consider the usefulness of increasing the availability of personal agents and job development personnel offering customized services through customer-controlled approaches that result in customized employment. One possible area of focus could include demonstrating the effectiveness of paying family members or other individuals with disabilities to serve as personal agents when selected by the individual with a disability to assist in negotiating and implementing employment plans and services;

(10) Incorporate use of funds leveraged across several systems available to people with disabilities through personal budgets and other forms of self-directed accounts.

In evaluating the quality of the proposed project design, ODEP will also consider the following factors:

(a) The extent to which the goals, objectives, and outcomes to be achieved by the proposed project are clearly specified and measurable;

(b) The extent to which the design of the proposed project is appropriate to, and will successfully address, the needs of the target population and other identified needs and the quality of the applicant's plans for recruiting and retaining the target population;

(c) The extent to which the design of the proposed project provides procedures and approaches for collaboration and coordination with key agencies and organizations and identification of critical roles;

(d) The extent to which the design of the proposed project provides clear understanding of and experience with utilization of customized employment strategies for increasing employment, choice and earnings of individuals with significant disabilities;

(e) The extent to which the proposed project will be coordinated, including demonstrated support from the state governor or designated Olmstead agency and commitment from key organizations, employers, and agencies;

(f) The extent to which the applicant encourages involvement of people with disabilities and their families, experts and organizations, and other relevant stakeholders in project activities;

(g) The extent to which the design of the project will facilitate an increase in the number of faith-based and community organizations that register as eligible training providers or as providers of supplemental and supportive services with their local One-Stop Center;

(h) The extent to which performance feedback and continuous improvement are integral to the design of the proposed project;

(i) The extent to which the management plan for project implementation is likely to achieve the objectives of the proposed project on time and within budget; and

(j) The extent to which the proposed project design features innovative strategies to implement customized employment and choice.

Letters of Commitment. Applicants can include letters of support if they provide specific commitments. Such letters can increase an applicant's score by showing that the commitments in the text of the proposal are serious. Form letters will not be considered. See also Part V.

3. Sustainability (25 Points)

The purpose of the sustainability criteria is to identify strategies for ensuring that activities funded under the grant will continue once federal funding ceases. Sustainability objectives must be built into the project design and ongoing project operation. Applicants must:

(1) Identify resources and partnerships that are an integral element of the project. Projects funded under this SGA must leverage a combination of Federal, state, and local public sector resources, as well as local non-profit sector resources for purposes of sustainability. Accordingly, in this section the applicant should enumerate these resources, describe any specific existing contractual commitments, and provide concrete evidence of sustainability;

(2) Identify activities and in-kind elements of sustained support. ODEP considers detailed commitments for specific new activities as more important than promises of in-kind supports in showing sustained support for the project. Grants recently received from another agency can be discussed in the proposal, but the applicant should be precise about which activities preceded this grant and which will occur because of the grant;

(3) Detail how Federal, state, and local public sector commitments contribute to the sustainability of this project following completion of the grant. Examples of such commitments could include: commitment from state vocational rehabilitation, one-stop center, state developmental disability, state Medicaid, or state general revenue funding to support expanded customized employment services for individuals securing employment through the agency; status as Employment Network under the Ticket to Work and Work Incentive Improvement Act providing customized employment services to eligible ticket-holders; private sector funding through foundations, financial or lending agencies, or other relevant collaborative arrangements for continuing provision or expansion of customized employment services in the community.

In evaluating the quality of the plan for sustainability, ODEP will also consider the following factors to be of particular importance:

(a) The extent to which the proposed project is designed to build capacity and yield results that will extend beyond the grant period, including the quality of the applicant's plans for implementing the project's activities in years four and five when Federal funding will be reduced.

(b) The likelihood of the applicant successfully securing state ownership and participation in these projects when the grant funds cease.

(c) The extent to which partnerships with outside entities (including public and private disability and faith-based and community organizations) and funding from additional Federal, state, and local resources will be effectively leveraged and utilized in continuing the WorkFORCE Action activities after the expiration of this grant. See Part V.

4. Management and Outcomes (30 Points)

The purpose of the Management and Outcomes criteria is to determine whether the applicant has developed an adequate management plan to effectively carry out the objectives and scope of the proposed project on time and within budget, to describe the predicted outcomes resulting from activities funded under this SGA, and to identify the “methods of evaluation” that will be used by the grantee to determine success.

Applicants should provide a detailed management plan, which identifies the critical activities, time frames, and responsibilities for effectively implementing the project, including the evaluation process for assuring successful implementation of grant objectives.

In addition, applicants should outline the strategy for documenting and reporting the activities undertaken during the life of the grant for the ODEP's future use in working with other grantees and constituencies.

In evaluating the management and outcomes criteria, the ODEP considers the following factors to be of particular importance:

(a) The extent to which the proposed budget and narrative justifications are adequate to support the proposed project;

(b) The extent to which performance feedback and continuous improvement are integral to the design of the proposed project;

(c) The extent to which the methods of evaluation provide for examining the effectiveness of project implementation strategies;

(d) The extent to which the evaluation will provide information to other programs about effective strategies suitable for replication or testing in other settings;

(e) The extent to which the methods of evaluation include the objective use of performance measures that are clearly related to the intended outcomes of the project and will produce quantitative and qualitative data;

(f) The extent to which the methods of evaluation measure in both quantitative and qualitative terms, program results and satisfaction of customers, both people with disabilities and employers;

(g) The adequacy of mechanisms for ensuring high-quality products and services from the proposed project;

(h) The extent to which the principal investigator and other key personnel are appropriate and adequate to meet the objectives of the proposed projects;

(i) The extent to which the budget is adequate to support and sustain the proposed project activities over the projected five-year period.

(j) The extent to which the costs are reasonable in relation to the objectives, design, and potential significance of the proposed project.

Part VIII. Monitoring and Reporting

Monitoring

The ODEP is responsible for ensuring the effective implementation of each competitive grant project in accordance with the provisions of this announcement and the terms of the grant award document.

Applicants should assume that ODEP staff, or their designees, will conduct on-site project reviews periodically. Reviews will focus on timely project implementation, performance in meeting the grant's programmatic goals and objectives, expenditures of grant funds on allowable activities, integration and coordination with other resources and service providers in the local area, project management and administration of project activities. WorkFORCE Action Grants may be subject to other additional reviews at the discretion of the ODEP.

Reporting

Grantees will be required to submit quarterly financial and narrative progress reports. In addition, all grantees will be expected to provide information on individuals with disabilities securing employment through use of customized strategies (including information on types of jobs, wages, and benefits secured by specific individuals with disabilities) and other areas addressed through the linkages and networks facilitated by project activities.

Grantees will be required to submit periodic financial and participation reports. Specifically the following reports will be required:

A. Quarterly reports: The quarterly report is estimated to take ten hours to complete. The form for the Quarterly Report will be provided by the ODEP. The ODEP will work with the grantee to help refine the requirements of the report, which will, among other things, include measures of ongoing analysis for continuous improvement and customer satisfaction.

B. Standard Form 269; Financial Status Report Form (FSR) will be completed on a quarterly basis, using the on-line electronic reporting system.

C. Final Project Report: The final report will include an assessment of project performance and outcomes achieved. The final report is estimated to take 20 hours. This report will be submitted in hard copy and on electronic disk using a format and following instructions, which will be provided by the DOL. A draft of the final report is due to the ODEP 45 days before the termination of the grant. The final report is due to the DOL 60 days following the termination of the grant.

All grantees must agree to cooperate with an independent evaluation to be conducted by the ODEP. The ODEP will arrange for and conduct this independent evaluation of the outcomes, impacts, and accomplishments of each funded project. Grantees must agree to make available records on all parts of project activity, including participant employment and wage data, and to provide access to personnel, as specified by the evaluator(s), under the direction of the ODEP. This independent evaluation is separate from the ongoing evaluation for continuous improvement required of the grantee for project implementation. The ODEP's evaluation of the WorkFORCE Action Grants includes a process evaluation that includes extensive information pertaining to achievements under the grant, summary information, number of people with disabilities receiving services, number of people employed through the One-Stop system and other sources.

Grantees must also agree to work with the ODEP in its various technical assistance efforts in order to freely share with others what is learned about delivering customized employment services to the Olmstead population. Grantees must agree to collaborate with other research institutes, centers, studies, and evaluations that are supported by the DOL and other relevant Federal agencies, as appropriate. Finally, Grantees must agree to actively utilize the programs sponsored by the ODEP, including the Job Accommodation Network, (http://www.jan.wvu.edu), and the Employer Assistance Referral Network (http://www.earnworks.com).

Part IX. Review Process and Evaluation Criteria

All applications will be reviewed for compliance with the requirements of this notice. A careful evaluation of applications will be made by a technical review panel, which will evaluate the applications against the rating criteria listed in this SGA. The panel results are advisory in nature and not binding on the Grant Officer. The ODEP may elect to award grants with or without discussion with the offeror. In situations without discussions, an award will be based on the offeror's signature on the SF-424, which constitutes a binding offer. The Grant Officer may consider any information that is available and will make final award decisions based on what is most advantageous to the Government, considering such factors as:

• Panel findings;

• Geographic distribution of the competitive applications and based on location of the existing Olmstead WorkFORCE Action Grants (Boston, MA; Peoria, IL; and, Decatur, GA) and;

• Assuring a variety of program designs; and

• Availability of funds

X. Administration Provisions

A. Administrative Standards and Provisions

Grantees are strongly encouraged to read these regulations before submitting a proposal. The grant awarded under this SGA shall be subject to the following as applicable:

• 29 CFR part 95—Grants and Agreements With Institutions of Higher Education, Hospitals, and Other Non-Profit Organizations, and With Commercial Organizations, Foreign Governments, Organizations Under the Jurisdiction of Foreign Governments, and International Organizations;

• 29 CFR part 96— Audit Requirements for Grants, Contracts, and Other Agreements.

• 29 CFR part 97—Uniform Administrative Requirement for Grants and Cooperative Agreements to State and Local Governments.

B. Allowable Cost

Determinations of allowable costs shall be made in accordance with the following applicable Federal cost principles:

• State and Local Government—OMB Circular A-87

• Nonprofit Organizations—OMB Circular A-122

• Profit-Making Commercial Firms—48 CFR part 31

Profit will not be considered an allowable cost in any case.

C. Grant Assurances

As a condition of the award, the applicant must certify that it will comply fully with the nondiscrimination and equal opportunity provisions of the following laws:

• 29 CFR Part 31—Nondiscrimination in Federally-assisted programs of the Department of Labor, effectuation of Title VI of the Civil Rights Act of 1964.

• 29 CFR Part 32—Nondiscrimination on the Basis of Disability in Programs and Activities Receiving or Benefiting from Federal Assistance. (Implementing section 504 of the Rehabilitation Act, 29 U.S.C. 794)

• 29 CFR Part 36—Nondiscrimination on the Basis of Sex in Education Programs or Activities Receiving Federal Financial Assistance. (Implementing title IX of the Education Amendments of 1972, 20 U.S.C. 1681 et seq.)

• 29 CFR Part 37—Nondiscrimination and Equal Opportunity Provisions of the Workforce Investment Act of 1998 (WIA), (Implementing Section 188 of the Workforce Investment Act, 29 U.S.C. 2938)

The applicant must include assurances and certifications that it will comply with these laws in its grant application. The assurances and certifications are attached as Appendix C.

Signed at Washington, DC, this 20th day of May, 2003
Lawrence J. Kuss,
Grant Officer.

Appendix A. Application for Federal Assistance, Form SF-424

Appendix B. Budget Information Sheet, Form SF-424A

Appendix C. Assurances and Certifications Signature Page

Appendix D. Survey on Ensuring Equal Opportunity

BILLING CODE 4510-CX-P

[FR Doc. 03-13400 Filed 5-28-03; 8:45 am]

BILLING CODE 4510-CX-C